DEPARTMENT OF COMMERCE

International Trade Administration

[A-570-890]

Wooden Bedroom Furniture from the People's Republic of China: Notice of Court Decision Not in Harmony With Final Results of Administrative Review

AGENCY: Import Administration, International Trade Administration, Department of Commerce.

EFFECTIVE DATE: November 13, 2008.

SUMMARY: On October 10, 2008, the United States Court of International Trade (“CIT”) sustained the Department of Commerce's (“Department”) final results of redetermination pursuant to the Department's voluntary remand. See Macau Youcheng Trading Co. and Zhongshan Youcheng Wooden Arts & Crafts Co., Ltd. v. United States Court No. 07-00322: Final Results Of Redetermination Pursuant To Voluntary Remand, dated October 3, 2008 (“Youcheng v. United States”). Consistent with the decision of the United States Court of Appeals for the Federal Circuit (“CAFC”) in Timken Co. v. United States, 893 F.2d 337 (Fed. Cir. 1990) (“Timken”), the Department is notifying the public that the final judgment in this case is not in harmony with the Department's final results of the administrative review of the antidumping duty order on wooden bedroom furniture (“WBF”) from the People's Republic of China (“PRC”) covering the period of review (“POR”) of June 24, 2004, through December 31, 2005. See Amended Final Results of Antidumping Duty Administrative Review and New Shipper Reviews: Wooden Bedroom Furniture From the People's Republic of China, 72 FR 46957 (August 22, 2007) (“Final Results”); and Second Amended Final Results of Antidumping Duty Administrative Review: Wooden Bedroom Furniture From the People's Republic of China, 72 FR 62834 (November 7, 2007) (“Amended Final Results”).

FOR FURTHER INFORMATION CONTACT: Frances Veith, AD/CVD Operations, Office 8, Import Administration, International Trade Administration, U.S. Department of Commerce, 14th Street and Constitution Avenue, NW, Washington, DC 20230; telephone: (202) 482-4295.

SUPPLEMENTARY INFORMATION: On August 22, 2007, the Department published its final results in the administrative review and on November 7, 2007, it published its amended final results. See Final Results and Amended Final Results. In the Final Results, the Department denied Macau Youcheng Trading Co. and Zhongshan Youcheng Wooden Arts and Crafts Co., Ltd. (collectively “Youcheng”) a separate rate stating that Youcheng failed to demonstrate that it made a sale of subject merchandise during the POR because Youcheng did not provide proof of payment for its reported sales transaction. The Department's determination to deny Youcheng a separate rate in the Final Results remained unchanged in the Amended Final Results.

On September 4, 2007, Youcheng filed a summons and complaint with the CIT challenging the Department's denial of a separate rate to Youcheng. On June 19, 2008, the Department requested a voluntary remand so that the Department could further analyze the record, explain its decision, and take such action as may be appropriate pertaining to the denial of separate-rate status to Youcheng. On June 20, 2008, the CIT granted the Department's voluntary remand motion. On August 22, 2008, we issued our draft redetermination pursuant to the remand to the interested parties for comment. On September 12, 2008, Petitioners¹ and Youcheng provided comments on the Department's draft redetermination results.

¹ American Furniture Manufacturers Committee for Legal Trade and Vaughan-Bassett Furniture Company, Inc.

On October 3, 2008, the Department issued its final results of redetermination pursuant to Youcheng v. United States. The remand redetermination explained that, in accordance with the CIT's instructions, the Department analyzed the record and reconsidered the Final Results and determined to grant separate-rate status to Youcheng. Based on this reconsideration, Youcheng's status from the final results changed from an entity considered as part of the PRC-wide entity and subject to the PRC-wide rate to an entity eligible for separate-rate status and having a separate rate. Accordingly, Youcheng's revised antidumping duty margin is the weighted-average margin of the mandatory respondents (i.e., 35.78 percent) in the administrative review.

TIMKEN NOTICE:

In its decision in Timken, the CAFC held that, pursuant to section 516A(e) of the Tariff Act of 1930, as amended (“the Act”), the Department must publish a notice of a court decision that is not “in harmony” with a Department determination and must suspend liquidation of entries pending a “conclusive” court decision. See Timken, 893 F.2d at 341. The CIT's decision in Youcheng v. United States on October 10, 2008, constitutes a final decision of that court that is not in harmony with the Department's Final Results and Amended Final Results. This notice is published in fulfillment of the publication requirements of Timken. Accordingly, the Department will continue the suspension of liquidation of the subject merchandise pending the expiration of the period of appeal or, if appealed, pending a final and conclusive court decision. In the event the CIT's ruling is not appealed or, if appealed, upheld by the CAFC, the Department will instruct U.S. Customs and Border Protection to assess antidumping duties based on the weighted average of the cash deposit rates calculated for the mandatory respondents (i.e., 35.78 percent) in the administrative review pursuant to section 735(c)(5)(B) of the Act.

This notice is issued and published in accordance with section 516A(c)(1) of the Act.

Dated: November 5, 2008.
David M. Spooner
Assistant Secretary for Import Administration.

[FR Doc. E8-26976 Filed 11-12-08; 8:45 am]

BILLING CODE 3510-DS-S